DEPARTMENT OF THE INTERIOR

Fish and Wildlife Service

[FWS-R3-ES-2008-N0039; 30120-1113-0000-F6]

Endangered and Threatened Species Permit Applications

AGENCY: Fish and Wildlife Service, Interior.

ACTION: Notice of availability of permit applications; request for comments.

SUMMARY: The following applicant has applied for a permit to conduct certain activities with endangered species.

DATES: We must receive any written comments on or before April 17, 2008.

ADDRESSES: Regional Director, Attn: Peter Fasbender, U.S. Fish and Wildlife Service, Ecological Services, 1 Federal Drive, Fort Snelling, MN 55111—4056; electronic mail, permitsR3ES@fws.gov.

FOR FURTHER INFORMATION CONTACT: Mr. Peter Fasbender, (612) 713-5343.

SUPPLEMENTARY INFORMATION:

Endangered Species

The Endangered Species Act of 1973, as amended (16 U.S.C. 1531 et seq.) (Act), with some exceptions, prohibits activities affecting endangered species unless authorized by a permit from the Service. Before issuing a permit, we invite public comment on it. Accordingly, we invite public comment on the following applicant's permit application for certain activities with endangered species authorized by section 10(a)(1)(A) of the Act and the regulations governing the taking of endangered species (50 CFR 17). Submit your written data, comments, or requests for copies of the complete applications to the address shown in ADDRESSES.

Permit Number: TE003379

Applicant: U.S. Army Corps of Engineers, St. Paul District, St. Paul, Minnesota.

The applicant requests a permit renewal to take Higgins' eye pearlymussel (Lampsilis higginsi) in Iowa, Minnesota, and Wisconsin. The scientific research is aimed at enhancement of survival of the species in the wild.

Permit Number: TE006012-4

Applicant: Steven Taylor, Champaign, Illinois.

The applicant requests a permit renewal to take Illinois cave amphipod (Gammarus acherondytes) in Illinois. The scientific research is aimed at enhancement of survival of the species in the wild.

Permit Number: TE08517

Applicant: Davey Resource Group, Kent, Ohio.

The applicant requests a permit renewal for take of Indiana bat (Myotis sodalis). The scientific research is aimed at enhancement of survival of the species in the wild.

Permit Number: TE023664-17

Applicant: Environmental Solutions & Innovations, Cincinnati, Ohio.

The applicant requests a permit renewal to take listed bats, plants, and mussels. The scientific research is aimed at enhancement of survival of the species in the wild.

Permit Number: TE 023666-2

Applicant: Eric R. Britzke, Forrest City, Arkansas.

The applicant requests a permit renewal to take the Indiana bat (Myotis sodalis), gray bat (Myotis grisescens), Virginia big-eared bat (Corynorhinus townsendii virginianus), Ozark big-eared bat (Corynorhinus townsendii ingens), and Northern flying squirrel (Glaucomys sabrinus) throughout their ranges. The scientific research is aimed at enhancement of survival of the species in the wild.

Permit Number: TE 040881

Applicant: Timothy C. Carter, Muncie, Indiana.

The applicant requests his permit re-issued to take the Indiana bat (Myotis sodalis) and gray bat (Myotis grisescens) throughout Georgia, Illinois, Indiana, Iowa, Michigan, Missouri, Ohio and Wisconsin. The scientific research is aimed at enhancement of survival of the species in the wild.

Permit Number: TE101150

Applicant: Volk Field, Camp Douglas, Wisconsin.

The applicant requests a permit renewal to take (harass) the whooping crane (Grus americana) within the Volk Field National Guard Base in Juneau County. The harassment is to enhance survival of whooping cranes within Volk Field air space.

Permit Number: TE118259

Applicant: Civil and Environmental Consultants, Inc, Pittsburgh, Pennsylvania.

The applicant requests a permit renewal to take the Indiana bat (Myotis sodalis) and gray bat (Myotis grisescens) throughout their ranges. The scientific research is aimed at enhancement of survival of the species in the wild.

Permit Number: TE120231

Applicant: John Timpone, St. Louis, Missouri.

The applicant requests a permit renewal and amendment to take the Indiana bat (Myotis sodalis) throughout Arkansas, Illinois, Indiana, Iowa, Kentucky, Maryland, Michigan, Missouri, New Hampshire, New Jersey, New York, Ohio, Pennsylvania, Tennessee, Vermont, Virginia, and West Virginia. The scientific research is aimed at enhancement of survival of the species in the wild.

Permit Number: TE120256

Applicant: David Ewert, Lansing, Michigan.

The applicant requests a permit renewal to take the Kirtland's warbler (Dendroica kirtlandii) throughout its range. The scientific research is aimed at enhancement of survival of the species in the wild.

Permit Number: TE125546

Applicant: Smithsonian Institute, Washington, DC.

The applicant requests a permit amendment to take the Kirtland's warbler (Dendroica kirtlandii) throughout its range. The scientific research is aimed at enhancement of survival of the species in the wild.

Permit Number: TE127643

Applicant: U.S. Forest Service, Northern Research Station, Columbia, Missouri.

The applicant requests a permit renewal to take the Indiana bat (Myotis sodalis), gray bat (Myotis grisescens), and Ozark big-eared bat (Corynorhinus townsendii ingens) throughout Missouri. The scientific research is aimed at enhancement of survival of the species in the wild.

Permit Number: TE128304-5

Applicant: Stantec Consulting Services (Formerly R.D. Zande and Associates), Columbus, Ohio.

The applicant requests a permit renewal and minor amendment for take of Indiana bat (Myotis sodalis) throughout its range. The scientific research is aimed at enhancement of survival of the species in the wild.

Permit Number: TE130493

Applicant: Michael J. Harvey, Cookeville, Tennessee.

The applicant requests a permit renewal to take the Indiana bat (Myotis sodalis), gray bat (Myotis grisescens), Virginia big-eared bat (Corynorhinus townsendii virginianus), and Ozark big-eared bat (Corynorhinus townsendii ingens) throughout their ranges. The scientific research is aimed at enhancement of survival of the species in the wild.

Permit Number: TE131386

Applicant: Lewis Environmental Consulting (Formerly Mainstream Commercial Divers, Inc.), Murray, Kentucky.

The applicant requests a permit renewal to take listed mussel species throughout Alabama, Arkansas, Florida, Georgia, Illinois, Indiana, Iowa, Kentucky, Mississippi, Missouri, Ohio, Pennsylvania, Tennessee, West Virginia, and Wisconsin. The scientific research is aimed at enhancement of survival of the species in the wild.

Permit Number: TE131911

Applicant: Shawnee National Forest, Harrisburg, Illinois.

The applicant requests a permit renewal to take Indiana bats (Myotis sodalis), and gray bats (Myotis grisescens) throughout U.S. Forest Service property in Illinois and Missouri. The applicant also requests the permit amended to take these species throughout U.S. Forest Service property in Ohio. The scientific research is aimed at enhancement of survival of the species in the wild.

Permit Number: TE133291

Applicant: Chicago Botanic Garden, Glencoe, Illinois.

The applicant requests a permit renewal to take Pitcher's thistle (Cirsium pitcherii) throughout Indiana and Michigan. The scientific research is aimed at enhancement of survival of the species in the wild.

Permit Number: TE135297

Applicant: Saint Louis Zoo, St. Louis, Missouri.

The applicant requests a permit renewal to take (collect) the American burying beetle (Nicrophorus americanus) in Missouri. The scientific research is aimed at enhancement of survival of the species in the wild.

Permit Number: TE163772

Applicant: Partners for Fish and Wildlife Program, U.S. Fish and Wildlife Service, Fort Snelling, Minnesota.

The applicant requests a permit to take the copperbelly water snake (Nerodia erythrogaster neglecta) during habitat conservation and management actions aimed at recovery of the species within Michigan, Indiana, and Ohio. The scientific research is aimed at enhancement of survival of the species in the wild.

Permit Number: TE164072

Applicant: M. Brent McClane, St. Louis, Missouri.

The applicant requests a permit renewal to take listed mussel species throughout Arkansas, Illinois, Indiana, Iowa, Kentucky, Michigan, Minnesota, Missouri, Ohio, Tennessee, West Virginia, and Wisconsin. The scientific research is aimed at enhancement of survival of the species in the wild.

Permit Number: TE174386

Applicant: Rod McClanahan, Anna, Illinois.

The applicant requests a permit to take Indiana bats (Myotis sodalis), and gray bats (Myotis grisescens) throughout their ranges. The scientific research is aimed at enhancement of survival of the species in the wild.

Permit Number: TE174388

Applicant: Metropolitan Park District of the Toledo Area, Toledo County, Ohio.

The applicant requests a permit to take the Karner blue butterfly (Lycaeides melissa samuelis) in Ohio. The scientific research is aimed at enhancement of survival of the species in the wild.

Permit Number: TE174547

Applicant: Stantec Consulting Services, Inc., Topshame, Maine.

The applicant requests a permit to take Indiana bats (Myotis sodalis) throughout its range. The scientific research is aimed at enhancement of survival of the species in the wild.

Permit Number: TE174564

Applicant: Michigan Natural Features Inventory, Lansing, Michigan.

The applicant requests a permit to take the Mitchell's satyr butterfly (Neonympha mitchellii mitchellii) in Michigan. The scientific research is aimed at enhancement of survival of the species in the wild.

Permit Number: TE175852

Applicant: Christopher A. Hamm, Lansing, Michigan.

The applicant requests a permit to take the Mitchell's satyr butterfly (Neonympha mitchellii mitchellii) in Michigan. The scientific research is aimed at enhancement of survival of the species in the wild.

Permit Number: TE175859

Applicant: Maria Bidart-Bouzat, Bowling Green State University, Bowling Green, Ohio.

The applicant requests a permit to take the Karner blue butterfly (Lycaeides melissa samuelis) in Michigan and Ohio. The scientific research is aimed at enhancement of survival of the species in the wild.

Permit Number: TE175862

Applicant: University of Illinois at Chicago, Chicago, Illinois.

The applicant requests a permit to take Pitcher's thistle (Cirsium pitcherii) in Indiana. The scientific research is aimed at enhancement of survival of the species in the wild.

Permit Number: TE840524

Applicant: Lynn Robbins, Missouri State University, Springfield, Missouri.

The applicant requests a permit renewal to take Indiana bats (Myotis sodalis), and gray bats (Myotis grisescens). The scientific research is aimed at enhancement of survival of the species in the wild.

Public Comments

We solicit public review and comments on these permit applications. Please refer to the respective permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et. seq.), we have made an initial determination that the activities proposed by this permit are categorically excluded from the requirement to prepare an environmental assessment or environmental impact statement.

Dated: February 13, 2008.
Lynn Lewis,
Assistant Regional Director, Acting, Ecological Services, Region 3, Fort Snelling, Minnesota.

[FR Doc. E8-5377 Filed 3-17-08; 8:45 am]

BILLING CODE 4310-55-P